NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for International Science and Engineering—PIRE “Research and Education in Active Coatings Technologies (REACT) for the Human Habitat” Site Visit (#10749).

Date/Time: September 18, 2017 8:00 a.m.-9:30 p.m. September 19, 2017 8:00 a.m.-4:30 p.m.

Place: University of Pennsylvania, Department of Materials Science and Engineering, 3231 Walnut Street, Philadelphia, PA 19104-6272.

Type of Meeting: Part open.

Contact Person: Cassandra Dudka, PIRE Program Manager, National Science Foundation, 4201 Wilson Blvd., Arlington, Virginia 22230; Telephone 703/292-7250.

Purpose of Meeting: NSF site visit during year 2 of the five-year award period to conduct an in-depth evaluation of performance, to assess progress towards goals, and to provide recommendations.

Agenda

Monday, September 18, 2017

8:00 a.m.-10:00 a.m. Introductions, PIRE Rationale and Goals, Research, Why GIANT as partner? a) facilities, b) expertise, c) ecosystem/environment

10:00 a.m.-10:20 a.m. NSF Executive Session/Break (CLOSED)

10:20 a.m.-Noon Integrating Research and Education across REACT Adjustments made from original proposal

Noon-12:30 p.m. NSF Executive Session (CLOSED)

12:30 p.m.-2:00 p.m. Lunch—Discussion with Students

2:00 p.m.-2:30 p.m. Tour of Facilities with REACT Fellows

2:30 p.m.-3:00 p.m. REACT Expanded—spinoffs and new opportunities

3:00 p.m.-3:30 p.m. NSF Executive Session/Break (CLOSED)

3:30 p.m.-4:15 p.m. Administration, Management, and Budget Plans

4:15 p.m.-5:15 p.m. Wrap up

5:15 p.m.-6:15 p.m. Executive Session/Break (CLOSED)

6:15 p.m.-8:00 p.m. Critical Feedback Provided to PI

8:00 p.m.-9:30 p.m. NSF Executive Session/Working Dinner (CLOSED) Committee organizes on its own

Tuesday, September 19, 2017

8:00 a.m.-9:00 a.m. Institutional Support (Administrators and PI/Co-PIs) (CLOSED)

9:00 a.m.-10:00 a.m. Summary/Proposing Team to Critical Feedback (CLOSED)

10:00 a.m.-4:00 p.m. Site Review Team Prepares Site Visit Report (CLOSED) (Working Lunch Provided)

4:00 p.m.-4:30 p.m. Presentation of Site Visit Report to Principal Investigator (CLOSED)

Reason for Closing: Topics to be discussed and evaluated during closed portions of the site review will include information of a proprietary or confidential nature, including technical information; and information on personnel. These matters are exempt under 5 U.S.C.552b(c), (4) and (6) of the Government in the Sunshine Act.

Dated: August 21, 2017.
Crystal Robinson,
Committee Management Officer.

[FR Doc. 2017-17929 Filed 8-23-17; 8:45 am]

BILLING CODE 7555-01-P